FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 011488-005.

Title: CSVV/Cool Carriers Space Charter Agreement.

Parties: Cool Carriers AB and CSAV Sud Americana De Vapores S.A.

Filing Party: David F. Smith, Esq.; Cozen O'Connor; 1627 I Street NW., Suite 1100; Washington, DC 20006.

Synopsis: The Amendment changes the name of Agreement party NYKCool AB to Cool Carriers AB and makes related conforming changes.

Agreement No.: 012287-001.

Title: Siem Car Carriers AS/Mitsui O.S.K Lines Ltd. Space Charter Agreement.

Parties: Siem Car Carriers AS and Mitsui O.S.K Lines, Ltd.

Filing Party: Ashley W. Craig, Esq. and Elizabeth K. Lowe, Esq.; Venable LLP; 575 Seventh Street NW., Washington, DC 20004.

Synopsis: The Amendment adds Germany and the U.S. Gulf Coast to the geographic scope of the Agreement.

Agreement No.: 012317.

Title: MOL/“K” Line U.S. Atlantic and China Sailing Agreement.

Parties: Mitsui O.S.K. Lines, Ltd. and Kawasaki Kisen Kaisha, Ltd.

Filing Party: Eric. C. Jeffrey, Esq.; Nixon Peabody LLP; 401 9th Street NW., Suite 900; Washington, DC 20004.

Synopsis: The Agreement authorizes the Parties to coordinate their sailings and space requirements in the trade, and to discuss and agree upon the volumes, cargo characteristics, shipping requirements, and other transportation features of service for a specific shipper, when such shipper has given written authorization for such discussion and agreement.

By Order of the Federal Maritime Commission.
Dated: February 13, 2015.
Rachel E. Dickon,
Assistant Secretary.

[FR Doc. 2015-03506 Filed 2-18-15; 8:45 am]

BILLING CODE 6730-01-P